DEPARTMENT OF ENERGY

Federal Energy Regulatory Commission

[Docket No. RM01-8-000, Docket No. ER02-2001-000]

Revised Public Utility Filing, Electric Quarterly Reports; Notice of Electric Quarterly Reports Technical Conference

January 7, 2008.

On September 24, 2007, the Commission issued Order No. 2001-G, the Electric Quarterly Report (EQR) Data Dictionary.¹ The Commission issued an order on rehearing, Order No. 2001-H, on December 21, 2007. These orders may be found at http://elibrary.ferc.gov. The EQR Data Dictionary collects in one document the definitions of certain terms and values used in filing EQR data. This notice announces a technical conference regarding the changes associated with the EQR Data Dictionary. The technical conference will be held Tuesday, February 26, 2008, in the Commission Meeting Room at 888 First Street, NE., Washington, DC and via teleconference. The conference will run from 10 a.m. to 3 p.m. (EST).

¹ Revised Public Utility Filing Requirements for Electric Quarterly Reports, Order No. 2001-G, 120 FERC ¶ 61,270 (Sep. 24, 2007), 72 FR 56735 (Oct. 4, 2007).

During the technical conference, Commission staff will review the EQR Data Dictionary and address questions from EQR users. An agenda will be issued prior to the conference.

Members of the public interested in raising questions about the EQR Data Dictionary are invited to submit them in writing in advance of the technical conference via the eFiling link on the Commission's Web site at http://www.ferc.gov by January 31, 2008. Questions submitted should refer to Docket Nos. RM01-8-000 and ER02-2001-000. Questions submitted in advance will be given priority and will be addressed by Commission staff at the technical conference.

All interested persons are invited to participate in the technical conference by attending in person or by dialing in. Those interested in participating are asked to register no later than February 12, 2008, on the FERC Web site at https://www.ferc.gov/whats-new/registration/eqr-02-26-form.asp. Please indicate whether you will be attending in person or plan to dial in. There is no registration fee. Information and further details about the technical conference will be sent to registered participants.

For additional information, please contact Christie Kim of FERC's Office of Enforcement at (202) 502-8216 or by e-mail at eqr@ferc.gov.

FERC conferences and meetings are accessible under section 508 of the Rehabilitation Act of 1973. Requests for accessibility accommodations should be sent by e-mail to accessibility@ferc.gov or by calling toll free (866) 208-3372 (voice), 202-502-8659 (TTY), or by sending a fax to 202-208-2106.

Kimberly D. Bose,
Secretary.

[FR Doc. E8-510 Filed 1-14-08; 8:45 am]

BILLING CODE 6717-01-P